DEPARTMENT OF LABOR

Office of the Secretary

Submission for OMB Review: Comment Request

April 22, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation, including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: Bridget Dooling, OMB Desk Officer for the Employment Standards Administration (ESA), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension without change of a currently approved collection.

Title of Collection: Request for Examination and/or Treatment.

OMB Control Number: 1215-0066.

Form Numbers: LS-1.

Total Estimated Number of Respondents: 25,000.

Total Estimated Annual Burden Hours: 81,000.

Total Estimated Annual Cost Burden: $3,558,000.

Affected Public: Individuals or households.

Description: The information collected on Form LS-1 is used by the Department's Longshore Division to verify that proper medical treatment has been authorized by the employer/insurance carrier, and to determine the severity of a claimant's injuries and thus his/her entitlement to compensation benefits. The employers/insurance carriers are responsible by law to provide these benefits if a claimant is medically unable to work as a result of a work-related injury. If the information were not collected, verification of authorized medical care and entitlement to compensation benefits would not be possible. For additional information, see related notice published at 73 FR 2947 on January 16, 2008.

Agency: Employment Standards Administration.

Type of Review: Extension without change of a currently approved collection.

Title of Collection: Rehabilitation Plan and Award.

OMB Control Number: 1215-0067.

Form Numbers: OWCP-16.

Total Estimated Number of Respondents: 7,000.

Total Estimated Annual Burden Hours: 3,500.

Total Estimated Annual Cost Burden: $0.

Affected Public: Business or other for-profit.

Description: Form OWCP-16 serves to document the agreed upon plan for rehabilitation services submitted by the injured worker and vocational rehabilitation counselor, and OWCP's award of payment from funds provided for rehabilitation. For additional information, see related notice published at 73 FR 2946 on January 16, 2008.

Agency: Employment Standards Administration.

Type of Review: Revision of a currently approved collection.

Title of Collection: Report of Changes That May Affect Your Black Lung Benefits.

OMB Control Number: 1215-0084.

Form Numbers: CM-929 and CM-929P.

Total Estimated Number of Respondents: 70,000.

Total Estimated Annual Burden Hours: 15,269.

Total Estimated Annual Cost Burden: $0.

Affected Public: Individuals or households.

Description: The CM-929 is used to help determine continuing eligibility of primary beneficiaries receiving black lung benefits from the Black Lung Disability Trust Fund. For additional information, see related notice published at 72 FR 70616 on December 12, 2007.

Agency: Employment Standards Administration.

Type of Review: Extension without change of a currently approved collection.

Title of Collection: Claim adjudication process for alleged presence of pneumoconiosis.

OMB Control Number: 1215-0090.

Form Numbers: CM-933; CM-933B; CM-988; CM-1159; and CM-2907.

Total Estimated Number of Respondents: 17,500.

Total Estimated Annual Burden Hours: 4,259.

Total Estimated Annual Cost Burden: $0.

Affected Public: Business or other for-profits.

Description: 20 CFR 718 specifies that certain information relative to the medical condition of a claimant who is alleging the presence of pneumoconiosis be obtained as a routine function of the claim adjudication process. The medical specifications in the regulations have been formatted in a variety of forms to promote efficiency and accuracy in gathering the required data. These forms were designed to meet the need to gather medical evidence. For additional information, see related notice published at 73 FR 5592 on January 30, 2008.

Agency: Employment Standards Administration.

Type of Review: Extension without change of a currently approved collection.

Title of Collection: Claim for Continuance of Compensation.

OMB Control Number: 1215-0154.

Form Numbers: CA-12.

Total Estimated Number of Respondents: 4,850.

Total Estimated Annual Burden Hours: 403.

Total Estimated Annual Cost Burden: $1,988.

Affected Public: Individuals or households.

Description: The Office of Workers' Compensation Programs (OWCP) administers the Federal Employees' Compensation Act, 5 U.S.C. 8133. Under the Act, eligible dependents of deceased employees receive compensation benefits on account of the employee's death. OWCP has to monitor death benefits for current marital status, potential for dual benefits, and other criteria for qualifying as a dependent under the law. The Form CA-12 is sent annually to beneficiaries in death cases to ensure that their status has not changed and that they remain entitled to benefits. In most cases, it is a matter of ensuring that a widow, widower, or child is still living and has not married so as to make them ineligible. The Form CA-12 is established for this purpose under 20 CFR 10.414. For additional information, see related notice published at 72 FR 69230 on December 7, 2007.

Agency: Employment Standards Administration.

Type of Review: Extension without change of a currently approved collection.

Title of Collection: Housing Occupancy Certificate—Migrant and Seasonal Agricultural Worker Protection Act.

OMB Control Number: 1215-0158.

Form Numbers: WH-520.

Total Estimated Number of Respondents: 100.

Total Estimated Annual Burden Hours: 7.

Total Estimated Annual Cost Burden: $0.

Affected Public: Farms.

Description: Any person who owns or controls a facility or real property to be used for housing migrant agricultural workers cannot permit any such worker to occupy the housing unless a copy of a certificate of occupancy from the state, local, or federal agency that conducted the housing safety and health inspection is posted at the site of the facility or real property. 29 U.S.C. 1823(b)(1); 29 CFR 500.135(b). The certificate attests that the facility or real property meets applicable safety and health standards. For additional information, see related notice published at 72 FR 70617 on December 12, 2007.

Agency: Employment Standards Administration.

Type of Review: Extension without change of a currently approved collection.

Title of Collection: Notice of Recurrence.

OMB Control Number: 1215-0167.

Form Numbers: CA-2a.

Total Estimated Number of Respondents: 680.

Total Estimated Annual Burden Hours: 340.

Total Estimated Annual Cost Burden: $299.

Affected Public: Individuals or households.

Description: The Office of Workers' Compensation Programs administers the Federal Employees' Compensation Act, (5 U.S.C. 8101, et seq.), which provides for continuation of pay or compensation for work related injuries or disease that result from Federal Employment. Regulation 20 CFR 10.104 designates Form CA-2a as the form to be used to request information from claimants with previously accepted injuries who claim a recurrence of disability, and from their supervisors. The form requests information relating to the specific circumstances leading up to the recurrence as well as information about their employment and earnings. For additional information, see related notice published at 72 FR 71699 on December 18, 2007.

Darrin A. King,
Acting Departmental Clearance Officer.

[FR Doc. E8-9097 Filed 4-24-08; 8:45 am]

BILLING CODE 4510-CF-P